ENVIRONMENTAL PROTECTION AGENCY

[EPA-HQ-OPP-2014-0009 and EPA-HQ-OPP-2014-0011; FRL-9951-70]

Pesticide Product Registration; Receipt of Applications for New Uses and New Active Ingredients; Correction

AGENCY: Environmental Protection Agency (EPA).

ACTION: Notice; correction.

SUMMARY: EPA issued a notice in the Federal Register of August 18, 2016, concerning its receipt of applications to add new food uses on previously registered pesticide products and to register new pesticide products containing active ingredients not included in any currently registered pesticide products. This document corrects omissions within the referenced notice.

FOR FURTHER INFORMATION CONTACT: Michael Goodis, Registration Division (7505P), Office of Pesticide Programs, Environmental Protection Agency, 1200 Pennsylvania Ave. NW., Washington, DC 20460-0001; main telephone number: (703) 305-7090; email address: RDFRNotices@epa.gov.

SUPPLEMENTARY INFORMATION:

I. General Information

A. Does this action apply to me?

The Agency included in the August 18, 2016 notice a list of those who may be potentially affected by this action.

B. How can I get copies of this document and other related information?

The docket for this action, identified by docket identification (ID) numbers EPA-HQ-OPP-2014-0009 and HQ-OPP-2014-0011, are available at http://www.regulations.gov or at the Office of Pesticide Programs Regulatory Public Docket (OPP Docket) in the Environmental Protection Agency Docket Center (EPA/DC), West William Jefferson Clinton Bldg., Rm. 3334, 1301 Constitution Ave. NW., Washington, DC 20460-0001. The Public Reading Room is open from 8:30 a.m. to 4:30 p.m., Monday through Friday, excluding legal holidays. The telephone number for the Public Reading Room is (202) 566-1744, and the telephone number for the OPP Docket is (703) 305-5805. Please review the visitor instructions and additional information about the docket available at http://www.epa.gov/dockets.

II. What does this correction do?

FR Doc. 2016-19758 published in the Federal Register of August 18, 2016 (81 FR 55192) (FRL-9950-20) is corrected as follows:

1. On page 55192, first column, under the heading SUMMARY, paragraph 1, line 1, correct “EPA has received applications to register pesticide products containing active ingredients not included in any currently registered pesticide products.” to read “EPA has received applications to add new food uses on previously registered pesticide products and to register new pesticide products containing active ingredients not included in any currently registered pesticide products.”

2. On page 55192, second column, under the heading “II. Registration Applications,” paragraph 4, line 1, correct “EPA has received applications to register pesticide products containing active ingredients not included in any currently registered pesticide products.” to read “EPA has received applications to add new food uses on previously registered pesticide products and to register new pesticide products containing active ingredients not included in any currently registered pesticide products.”

Authority: 7 U.S.C. 136 et seq.

Dated: September 16, 2016.
Daniel J. Rosenblatt,
Acting Director, Registration Division, Office of Pesticide Programs.

[FR Doc. 2016-24103 Filed 10-4-16; 8:45 am]

BILLING CODE 6560-50-P